LIBRARY OF CONGRESS

Copyright Office

37 CFR Part 202

[Docket No. RM 2005-9]

Preregistration of Certain Unpublished Copyright Claims

AGENCY: Library of Congress, Copyright Office.

ACTION: Supplemental notice of proposed rulemaking.

SUMMARY: The Copyright Office is supplementing its Notice of Proposed Rulemaking on preregistration of copyright claims, issued July 22, 2005. That notice proposed procedures to preregister any unpublished work being prepared for commercial distribution that is in a class of works determined by the Register of Copyrights to have had a history of pre-release infringement. Today's notice seeks information as to whether persons filing the electronic-only preregistration form prescribed by the Copyright Office will experience difficulties if it is necessary to use Microsoft's Internet Explorer web browser in order to preregister a work.

DATES: Comments are due no later than August 22, 2005. Reply comments are due no later than September 7, 2005.

ADDRESSES: If hand delivered by a private party, an original and five copies of any comment should be brought to Room LM-401 of the James Madison Memorial Building between 8:30 a.m. and 5 p.m. and the envelope should be addressed as follows: Office of the General Counsel, U.S. Copyright Office, James Madison Memorial Building, Room LM-401, 101 Independence Avenue, SE., Washington, DC 20559-6000. If hand delivered by a commercial courier, an original and five copies of any comment must be delivered to the Congressional Courier Acceptance Site located at Second and D Streets, NE., Washington, DC, between 8:30 a.m. and 4 p.m. The envelope should be addressed as follows: Copyright Office General Counsel, Room LM-403, James Madison Memorial Building, 101 Independence Avenue, SE., Washington, DC. If sent by mail, an original and five copies of any comment should be addressed to: Copyright GC/I&R, P.O. Box 70400, Southwest Station, Washington, DC 20024-0400. Comments may not be delivered by means of overnight delivery services such as Federal Express, United Parcel Service, etc., due to delays in processing receipt of such deliveries.

FOR FURTHER INFORMATION CONTACT: David O. Carson, General Counsel, or Charlotte Douglass, Principal Legal Advisor, P.O. Box 70400, Washington, DC 20024-0400, Telephone (202) 707-8380. Telefax: (202) 707-8366.

SUPPLEMENTARY INFORMATION: In accordance with the Artists' Rights and Theft Prevention Act of 2005 (the ART Act), Title I of the Family Entertainment and Copyright Act, Pub. L. No. 109-9, 119 Stat. 218, the Copyright Office recently proposed implementing regulations for preregistration of eligible copyright claims. 70 FR 42286 (July 22, 2005). To be eligible for preregistration, a work must be unpublished, in the process of being prepared for commercial distribution, and in a class of works that the Register of Copyrights determines has had a history of copyright infringement.

Section 104 of the ART Act directs that preregistration procedures must be in place by October 24, 2005. 17 U.S.C. 408(f)(1). To comply with this time frame and to facilitate efficient processing of preregistration claims, inter alia, the proposed rule calls for filing such claims by electronic means only. At this point in the process of developing the Copyright Office's system for online preregistration, it is not entirely clear whether the system will be compatible with web browsers other than Microsoft Internet Explorer versions 5.1 and higher. Filers of preregistration applications will be able to employ these Internet Explorer browsers successfully. Support for Netscape 7.2, Firefox 1.0.3, and Mozilla 1.7.7 is planned but will not be available when preregistration goes into effect. Present users of these browsers may experience problems when filing claims.

In order to ensure that preregistration can be implemented in a smoothly functioning and timely manner, the Office now seeks comments that will assist it in determining whether any eligible parties will be prevented from preregistering a claim due to browser requirements of the preregistration system. Therefore, this notice seeks information whether any potential preregistration filers would have difficulties using Internet Explorer (version 5.1 or higher) to file preregistration claims, and if so, why. More generally, in the interest of achieving support for browsers in the Office's preregistration processing environment, this notice inquires whether (and why) an eligible party who anticipates preregistering a claim on the electronic-only form will not be able to use Internet Explorer to do so, or will choose not to preregister if it is necessary to use Internet Explorer.

The Office requests that responses to this supplemental notice of inquiry be made part of the responders' comments on the July 22nd Notice of Proposed Rulemaking. Whether or not accompanied by comments on the proposed rule, the response to this notice of inquiry should be submitted by the due dates for comment on the Notice of Proposed Rulemaking, i.e., no later than August 22, 2005, with reply comments due no later than September 7, 2005.

Dated: August 1, 2005.
Tanya Sandros,
Associate General Counsel.

[FR Doc. 05-15458 Filed 8-3-05; 8:45 am]

BILLING CODE 1410-30-S